DEPARTMENT OF THE INTERIOR

National Park Service

[NPS-WASO-CONC-10876; 2410-OYC]

Temporary Concession Contract for the Operation of Lodging, Food and Beverage and Retail Services in Canyon de Chelly National Mounument

AGENCY: National Park Service, Interior.

ACTION: Notice.

SUMMARY: The National Park Service intends to award a temporary concession contract to a qualified person for the conduct of certain visitor services within Canyon de Chelly National Mounument for a term not to exceed 3 years. The visitor services include lodging, food and beverage and retail.

DATES: January 1, 2013.

FOR FURTHER INFORMATION CONTACT: Jennifer Bonnett, Intermountain Regional Concession Chief, Intermountain Region, 12795 W. Alameda Parkway, Denver, CO, 80225; Telephone (303) 969-2661, by email at Jennifer_bonnett@nps.gov.

SUPPLEMENTARY INFORMATION: The National Park Service will award the temporary contract to a qualified person (as defined in 36 CFR 51.3) under TC-CACH001-13. The National Park Service has determined that a temporary concession contract not to exceed 3 years is necessary in order to avoid interruption of visitor services and has taken all reasonable and appropriate steps to consider alternatives to avoid an interruption of visitor services.

Authority: This action is issued pursuant to 36 CFR 51.24(a). This is not a request for proposals.

Dated: August 10, 2012.
Peggy O'Dell,
Deputy Director.

[FR Doc. 2012-21937 Filed 9-5-12; 8:45 am]

BILLING CODE 4312-53-P